DEPARTMENT OF TRANSPORTATION

Federal Aviation Administration

14 CFR Part 39

[Docket No. FAA-2014-0108; Directorate Identifier 2013-CE-052-AD]

RIN 2120-AA64

Airworthiness Directives; Mitsubishi Heavy Industries, Ltd. Airplanes

AGENCY: Federal Aviation Administration (FAA), Department of Transportation (DOT).

ACTION: Notice of proposed rulemaking (NPRM).

SUMMARY: We propose to adopt a new airworthiness directive (AD) for certain Mitsubishi Heavy Industries, Ltd. Models MU-2B-30, MU-2B-35, MU-2B-36, MU-2B-36A, and MU-2B-60 airplanes. This proposed AD results from mandatory continuing airworthiness information (MCAI) originated by an aviation authority of another country to identify and correct an unsafe condition on an aviation product. The MCAI describes the unsafe condition as stress corrosion cracking in the flanges of the airframe at stations 4610 and 5605. We are issuing this proposed AD to require actions to address the unsafe condition on these products.

DATES: We must receive comments on this proposed AD by April 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Mitsubishi Heavy Industries America, Inc., c/o Turbine Aircraft Services, Inc., 4550 Jimmy Doolittle Drive, Addison, Texas 75001; telephone: (972) 248-3108, ext. 209; fax: (972) 248-3321; Internet: http://mu-2aircraft.com. You may review this referenced service information at the FAA, Small Airplane Directorate, 901 Locust, Kansas City, Missouri 64106. For information on the availability of this material at the FAA, call (816) 329-4148.

Examining the AD Docket

You may examine the AD docket on the Internet at http://www.regulations.gov by searching for and locating it in Docket No. FAA-2014-0108; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Kenneth A. Cook, Aerospace Engineer, FAA, Fort Worth Airplane Certification Office (ACO), 2601 Meacham Blvd., Fort Worth, Texas 76137; telephone: (817) 222-5475; fax: (817) 222-5960; email: Kenneth.A.Cook@faa.gov.

SUPPLEMENTARY INFORMATION:

Comments Invited

We invite you to send any written relevant data, views, or arguments about this proposed AD. Send your comments to an address listed under the ADDRESSES section. Include “Docket No. FAA-2014-0108; Directorate Identifier 2013-CE-052-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The Japan Civil Aviation Bureau (JCAB), which is the aviation authority for Japan, has issued AD No. TCD-8231-2013, dated August 6, 2013 (referred to after this as “the MCAI”), to correct an unsafe condition for certain Mitsubishi Heavy Industries, Ltd. (MHI) Models MU-2B-30, MU-2B-35, and MU-2B-36 airplanes. You may examine the MCAI on the Internet at http://www.regulations.gov by searching for and locating it in Docket No. FAA-2014-0108.

The JCAB has informed us that as part of the MHI continuing aging aircraft program, Models MU-2B-30, MU-2B-35, and MU-2B-36 airplanes, short body and long body, were subjected to detailed teardown inspections. During the inspections, structural cracks in the flanges of some long body airplane frames were found at frame station (STA) 4610 and STA 5605. It has been determined that the structural cracks resulted from stress corrosion.

Japan is the State of Design for Mitsubishi Heavy Industries, Ltd. (MHI) Models MU-2B-30, MU-2B-35, and MU-2B-36, which the MCAI AD applies to, and the United States is the State of Design for MHI Models MU-2B-36A and MU-2B-60 airplanes. Since the Models MU-2B-36A and MU-2B-60 airplanes are of similar type design, the same structural cracks could exist.

Relevant Service Information

Mitsubishi Heavy Industries, Ltd. has issued Service Bulletin No. 242, dated July 10, 2013, and Service Bulletin No. 104/53-003, dated July 22, 2013. The actions described in this service information are intended to correct the unsafe condition identified in the MCAI.

FAA's Determination and Requirements of This Proposed AD

Some of the affected products have been approved by the aviation authority of another country, and are approved for operation in the United States. Pursuant to our bilateral agreement with this State of Design Authority, they have notified us of the unsafe condition described in the MCAI and service information referenced above. We are proposing this AD because we evaluated all information and determined the unsafe condition exists and is likely to exist or develop on other products of the same type design.

Since the same unsafe condition exists for both the Japan and U.S. State of Design model airplanes, we are proposing one AD to address this issue for all affected airplanes.

This proposed AD would require inspecting the side and lower frame at STA 4610 and 5605 for cracks and corrosion and making all necessary repairs and replacements.

Costs of Compliance

We estimate that this proposed AD will affect 119 products of U.S. registry. We also estimate that it would take about 100 work-hours per product to comply with the basic requirements of this proposed AD. The average labor rate is $85 per work-hour.

Based on these figures, we estimate the cost of the proposed AD on U.S. operators to be $1,011,500, or $8,500 per product.

In addition, we estimate that any necessary follow-on actions would take up to 428 work-hours and require parts costing up to $14,400, for a cost up to $50,780 per product. We have no way of determining the number of products that may need such repair based on the results of the proposed inspection. The extent of damage will vary on each airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Mitsubishi Heavy Industries, Ltd.: Docket No. FAA-2014-0108; Directorate Identifier 2013-CE-052-AD.

(a) Comments Due Date

We must receive comments by April 14, 2014.

(b) Affected ADs

None.

(c) Applicability

This AD applies to Mitsubishi Heavy Industries, Ltd. Models MU-2B-30, MU-2B-35, and MU-2B-36 airplanes, serial numbers 502 through 651, 653 through 660, and 662 through 696, and Models MU-2B-36A and MU-2B-60 airplanes, serial numbers 661SA, 697SA through 799SA, and 1501SA through 1569SA, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as stress corrosion cracking in the flanges of the airframes at stations 4610 and 5605. We are issuing this AD to detect and correct structural cracks in the airframe flanges, which could reduce the structural integrity of the airplane.

(f) Actions and Compliance

Unless already done, do the actions in paragraphs (f)(1) through (f)(3) of this AD.

(1) Within the next 1,000 hours time-in-service (TIS) after the effective date of this AD or within the next 3 years after the effective date of this AD, whichever occurs first, inspect the side and lower frames at frame station (STA) 4610 and STA 5605 for cracks and corrosion. Do the inspection following paragraphs 3.0 through 3.3 of Mitsubishi Heavy Industries, Ltd. Service Bulletin No. 242, dated July 10, 2013, or Mitsubishi Heavy Industries, Ltd. Service Bulletin No. 104/53-003, dated July 22, 2013, as applicable.

(2) If any crack is found during the inspection required in paragraph (f)(1) of this AD, before further flight, do the actions in paragraphs (f)(2)(i) or (f)(2)(ii) of this AD:

(i) Repair the frame following paragraphs 4.0 and 5.0 of Mitsubishi Heavy Industries, Ltd. Service Bulletin No. 242, dated July 10, 2013, or Mitsubishi Heavy Industries, Ltd. Service Bulletin No. 104/53-003, dated July 22, 2013, as applicable; or

(ii) Replace the frame following paragraphs 4.0, 6.0, and 7.0 of Mitsubishi Heavy Industries, Ltd. Service Bulletin No. 242, dated July 10, 2013, or Mitsubishi Heavy Industries, Ltd. Service Bulletin No. 104/53-003, dated July 22, 2013, as applicable.

(3) If any corrosion is found during the inspection required in paragraph (f)(1) of this AD, before further flight, repair the damage following the instructions in paragraph 3.2 of Mitsubishi Heavy Industries, Ltd. Service Bulletin No. 242, dated July 10, 2013, or Mitsubishi Heavy Industries, Ltd. Service Bulletin No. 104/53-003, dated July 22, 2013, as applicable.

(g) Other FAA AD Provisions

The following provisions also apply to this AD:

(1) Alternative Methods of Compliance (AMOCs): The Manager, Standards Office, FAA, has the authority to approve AMOCs for this AD, if requested using the procedures found in 14 CFR 39.19. Send information to ATTN: Kenneth A. Cook, Aerospace Engineer, FAA, Fort Worth Airplane Certification Office (ACO), 2601 Meacham Blvd., Fort Worth, Texas 76137; telephone: (817) 222-5475; fax: (817) 222-5960; email: Kenneth.A.Cook@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Special Flight Permit

We are allowing special flight permits with the following limitations:

(1) Essential crew only;

(2) Minimum weight;

(3) Limit “G” loading to minimum; and

(4) Most direct flight to repair center.

(i) Related Information

Refer to MCAI Japan Civil Aviation Bureau (JCAB) AD No. TCD-8231-2013, dated August 6, 2013, for related information. You may examine the MCAI on the Internet at http://www.regulations.gov by searching for and locating it in Docket No. FAA-2014-0108. For service information related to this AD, contact Mitsubishi Heavy Industries America, Inc. c/o Turbine Aircraft Services, Inc., 4550 Jimmy Doolittle Drive, Addison, Texas 75001; telephone: (972) 248-3108, ext. 209; fax: (972) 248-3321; Internet: http://mu-2aircraft.com. You may review this referenced service information at the FAA, Small Airplane Directorate, 901 Locust, Kansas City, Missouri 64106. For information on the availability of this material at the FAA, call (816) 329-4148.

Issued in Kansas City, Missouri, on February 20, 2014.
Earl Lawrence,
Manager, Small Airplane Directorate, Aircraft Certification Service.

[FR Doc. 2014-04146 Filed 2-25-14; 8:45 am]

BILLING CODE 4910-13-P